DEPARTMENT OF STATE

[Public Notice 5405]

Overseas Schools Advisory Council Notice of Meeting

The Overseas Schools Advisory Council, Department of State, will hold its Annual Meeting on Wednesday, June 21, 2006, at 9:30 a.m. in Conference Room 1205, Department of State Building, 2201 C Street, NW., Washington, DC. The meeting is open to the public.

The Overseas Schools Advisory Council works closely with the U.S. business community in improving those American-sponsored schools overseas, which are assisted by the Department of State and which are attended by dependents of U.S. Government families and children of employees of U.S. corporations and foundations abroad.

This meeting will deal with issues related to the work and the support provided by the Overseas Schools Advisory Council to the American-sponsored overseas schools. The agenda includes a review of the recent activities of American-sponsored overseas schools and the overseas schools regional associations, a review of projects selected for the 2004, 2005, and 2006 Educational Assistance Programs, which are under development, and presentations on the Department of State's Allowances System, admissions requirements to universities in foreign countries, and acceptance of the Advanced Placement Program by universities in foreign countries.

Members of the general public may attend the meeting and join in the discussion, subject to the instructions of the Chair. Admittance of public members will be limited to the seating available. Access to the State Department is controlled, and individual building passes are required for all attendees. Persons who plan to attend should so advise the office of Dr. Keith D. Miller, Department of State, Office of Overseas Schools, Room H328, SA-1, Washington, DC 20522-0132, telephone 202-261-8200, prior to June 11, 2006. Each visitor will be asked to provide his/her date of birth and Social Security number at the time of registration and attendance and must carry a valid photo ID to the meeting. All attendees must use the C Street entrance to the building.

Dated: May 22, 2006.
Keith D. Miller,
Executive Secretary, Overseas Schools Advisory Council, Department of State.

[FR Doc. E6-8516 Filed 5-31-06; 8:45 am]

BILLING CODE 4710-24-P